DEPARTMENT OF LABOR

Agency Information Collection Activities; Submission for OMB Review; Comment Request; Reemployment Services and Eligibility Assessments (RESEA) Program Implementation Study; New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data for the Reemployment Services and Eligibility Assessments (RESEA) Program Implementation Study. A copy of the proposed Information Collection Request (ICR) can be obtained by contacting the office listed below in the addressee section of this notice.

DATES: Written comments must be submitted to the office listed in the addressee section below on or before February 5, 2019.

ADDRESSES: You may submit comments by either one of the following methods:

Email: ChiefEvaluationOffice@dol.gov; Mail or Courier: Megan Lizik, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Megan Lizik by email at ChiefEvaluationOffice@dol.gov or by phone at (202) 430-1255.

SUPPLEMENTARY INFORMATION: I. Background: DOL funds RESEA programs across all 50 states, DC, Puerto Rico, and the Virgin Islands. States and territories use these funds to address the reemployment services needs of Unemployment Insurance (UI) claimants and to prevent and detect UI improper payments (Unemployment Insurance Program Letter 8-18). The Bipartisan Budget Act of 2018 (Pub. L. 115-123) contains requirements to “establish and expand the use of evidence-based interventions” in states' RESEA programs. To help meet this requirement and build evidence about RESEA, DOL is conducting an implementation study that will provide in-depth understanding of RESEA programs and their components as implemented, and how states plan to meet the requirement for evidence-based programs (including building needed evidence).

This Federal Register Notice provides the opportunity to comment on two new proposed information collection activities that will be used for the implementation study.

• Semi-structured telephone interview protocols. The evaluation team will conduct calls to RESEA state leadership in approximately 24 states to systematically gather information about RESEA program operations not available in existing documents. This includes detail on how reemployment services are provided, interactions with federal workforce programs, how eligibility assessment and enforcement are carried out, and any current and planned evaluation activities.

• Semi-structured in-person interview protocols. Based on the phone discussions, the evaluation team will choose approximately 10 states for three-day site visits. Each site visit will examine the population served by the RESEA programs, the structure and service components of the programs, and evaluation efforts and perspectives on Bipartisan Budget Act of 2019. These visits will involve a day of interviews with relevant RESEA state officials and a day in each of two American Job Centers (AJCs) in two separate Workforce Development Board (WDB) areas.

A separate information collection activity request will be submitted in the future for a web survey of all RESEA programs. This web survey will provide the data needed to systematically understand RESEA program operations and state plans across all RESEA grantees nationwide.

II. Desired Focus of Comments: Currently, the Department of Labor is soliciting comments concerning the above data collection for the Evaluation to Advance Reemployment Services and Eligibility Assessments Program Evidence. DOL is particularly interested in comments that do the following:

○ Evaluate whether the proposed collection of information is necessary for the proper performance of the functions of the agency, including whether the information will have practical utility;

○ evaluate the accuracy of the agency's estimate of the burden of the proposed collection of information, including the validity of the methodology and assumptions used;

○ enhance the quality, utility, and clarity of the information to be collected; and

○ minimize the burden of the collection of information on those who are to respond, including through the use of appropriate automated, electronic, mechanical, or other technological collection techniques or other forms of information technology—for example, permitting electronic submission of responses.

III. Current Actions: At this time, the Department of Labor is requesting clearance for the semi-structured interview protocols for calls and site visits affiliated with the evaluation.

Type of Review: New information collection request.

OMB Control Number: 1290—0NEW.

Affected Public: State employees of state UI agencies and staff of local Workforce Development Boards (WDBs) and staff working in AJCs.

Comments submitted in response to this request will be summarized and/or included in the request for Office of Management and Budget approval of the information collection request; they will also become a matter of public record.

Estimated Annual Burden Hours
Type of instrument | Number of respondents ᵃ | Number of responses per respondent | Total number of responses | Average burden time per response (hours) | Estimated Burden Hours
Semi-structured telephone interview protocol for State RESEA administrator | ᵇ 8 | 1 | 8 | 2 | 16
Semi-structured in-person interview protocol for State UI staff | ᶜ 17 | 1 | 17 | 1 | 17
Semi-structured in-person interview protocol for Local WDB administrators | ᵈ 13 | 1 | 13 | 1 | 13
Semi-structured in-person interview protocol for AJC staff | ᵉ 40 | 1 | 40 | 1 | 40
Total | 78 |  | 78 |  | 86
ᵃ We are seeking a clearance period of three years
ᵇ Assumes approximately 1 semi-structured interview participant on each call to approximately 24 state Unemployment Insurance agencies over the three-year clearance period (rounding to an average of 8 per year).
ᶜ Assumes approximately 5 semi-structured interview participants during each site visit to approximately 10 state Unemployment Insurance agencies over the three-year clearance period (rounding to an average of 17 per year).
ᵈ Assumes approximately 4 semi-structured interview participants during each site visit to approximately 10 local workforce boards (WDBs) over the three-year clearance period (rounding to an average of 13 per year).
ᵉ Assumes approximately 6 semi-structured interview participants during each site visit to approximately 20 American Jobs Centers (AJCs) over the three-year clearance period, an average of 40 per year.

Molly Irwin,
Chief Evaluation Officer, U.S. Department of Labor.

[FR Doc. 2018-26574 Filed 12-6-18; 8:45 am]

BILLING CODE 4510-HX-P